DEPARTMENT OF TRANSPORTATION

Federal Highway Administration

Environmental Impact Statement: Mariposa County, CA

AGENCY: Federal Highway Administration (FHWA), DOT.

ACTION: Notice of Intent.

SUMMARY: The FHWA, on behalf of the California Department of Transportation (Caltrans), is issuing this notice to advise the public that an environmental impact statement (EIS) will be prepared for a proposed highway project in Mariposa County, California.

FOR FURTHER INFORMATION CONTACT: Juergen Vespermann, Chief, San Joaquin Valley Environmental Analysis Branch, Caltrans, 2015 East Shields Avenue, Suite 100, Fresno CA, 93726, E-mail at juergen_vespermann@dot.ca.gov, telephone at (559) 243-8157.

SUPPLEMENTARY INFORMATION: Effective July 1, 2007, the FHWA assigned, and Caltrans assumed, environmental responsibilities for this project pursuant to 23 U.S.C. 327. Caltrans will prepare an EIS on a proposal for reopening and restoring full access to the section of State Route 140 damaged by the Ferguson rockslide in Mariposa County, California. The project is located on State Route 140 from 8 miles east of Briceburg, post mile 42.0, to approximately 7.6 miles west of El Portal, post mile 42.7 in Mariposa County, California. The total length of the project is 0.7 mile. This project is proposing the following build alternatives:

• Alternative C (Open-Cut Realignment) would realign the highway to the northeast, spanning the Merced River and bypassing the rockslide. State Route 140 would cut through the mountain across from the rockslide and then span back across the river where it would meet the existing alignment. Two bridges would be constructed to cross the river.

• Alternative T (Tunnel Realignment) would realign the highway to the northeast, spanning the Merced River and bypassing the rockslide. State Route 140 would tunnel 725 feet through the mountain across from the rockslide and then span back across the river where it would meet the existing alignment. Two bridges would be constructed to cross the river.

• Alternative S (Viaduct Realignment) would realign the highway to the northeast, spanning the Merced River with two bridges and bypassing the rockslide with a hillside viaduct and retaining wall.

• No-Build Alternative would leave State Route 140 damaged and blocked by the Ferguson rockslide. As a result of the No-Build Alternative, the temporary detour would become the permanent State Route 140 alignment. The current vehicle length restrictions would remain in place along with the traffic signals controlling the single-lane access through the detour. The structures for the temporary detour were constructed during a declared emergency and were designed as a temporary solution to the closure of State Route 140. These structures would not meet standard design features nor would the detour meet the purpose and need of the project.

Letters describing the proposed action and soliciting comments will be sent to appropriate Federal, State, Participating Agencies, the American Indian Council of Mariposa County, the Yosemite-Mono Lake Paiute Indian Community and local agencies, and to private organizations and citizens who have previously expressed or are known to have interest in this proposal. Public hearings will be held in Mariposa and El Portal, California. Public notice will be given of the time and place of the hearings. The draft EIS will be available for public and agency review and comment prior to the public hearings. An Environmental Assessment was prepared and then circulated for agency and public review on November 19, 2007. The circulation period was a 45-day review that ended on January 3, 2008. Based on agency and public comments, Caltrans has decided to begin the preparation of an EIS. Scoping meetings and hearings were previously held during May, June, and November of 2007. The meetings and hearings were held at Mariposa and El Portal, California.

To ensure that the full range of issues related to this proposed action are addressed and all significant issues identified, comments and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: January 16, 2008.
Nancy Bobb,
Director, State Programs, Federal Highway Administration, Sacramento, California.

[FR Doc. E8-1142 Filed 1-23-08; 8:45 am]

BILLING CODE 4910-22-P